DEPARTMENT OF ENERGY

[Docket Nos. EA-176-A]

Application to Export Electric Energy; Sempra Energy Trading Corp.

AGENCY: Office of Fossil Energy, DOE.

ACTION: Notice of Application.

SUMMARY: Sempra Energy Trading Corp. (SET) has applied for renewal of its authority to transmit electric energy from the United States to Mexico pursuant to section 202(e) of the Federal Power Act.

DATES: Comments, protests or requests to intervene must be submitted on or before April 27, 2000.

ADDRESSES: Comments, protests or requests to intervene should be addressed as follows: Office of Coal & Power Im/Ex (FE-27), Office of Fossil Energy, U.S. Department of Energy, 1000 Independence Avenue, SW, Washington, DC 20585-0350 (FAX 202-287-5736).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On March 25, 1998, the Office of Fossil Energy (FE) of the Department of Energy issued Order No. EA-176 authorizing SET to transmit electric energy from the United States to Mexico as a power marketer using the international electric transmission facilities owned and operated by San Diego Gas & Electric Company. That two-year authorization will expire on March 25, 2000.

On February 28, 2000, SET filed an application with FE for renewal of the export authority contained in Order No. EA-176. SET has requested that the authorization be issued for a five-year term and that the international transmission facilities of the El Paso Electric Company, Central Power and Light Company, and the Comision Federal de Electricidad, the national electric utility of Mexico, be added to the list of authorized export points.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on SET's request to export to Mexico should be clearly marked with Docket EA-176-A. Additional copies are to be filed directly with Michael A. Goldstein, Esq., Senior Vice President and General Counsel, Sempra Energy Trading Corp., 58 Commerce Road, Stamford, CT 06902.

DOE notes that the circumstances described in this application are virtually identical to that for which export authority had previously been granted in FE Order EA-176. Consequently, DOE believes that it has adequately satisfied its responsibilities under the National Environmental Policy Act of 1969 through the documentation of a categorical exclusion in the FE Docket EA-176 proceeding.

Copies of this application will be made available, upon request, for public inspection and copying at the address provided above or by accessing the Fossil Energy Home Page at http://www.fe.doe.gov. Upon reaching the Fossil Energy Home page, select “Electricity” and then “Pending Proceedings” from the options menus.

Issued in Washington, DC, on March 15, 2000.
Anthony J. Como,
Deputy Director, Electric Power Regulation, Office of Coal & Power Im/Ex, Office of Coal & Power Systems, Office of Fossil Energy.

[FR Doc. 00-7182 Filed 3-22-00; 8:45 am]

BILLING CODE 6450-01-P